DEPARTMENT OF DEFENSE

Office of the Secretary

[Docket ID DoD-2022-OS-0140]

Privacy Act of 1974; System of Records

AGENCY: Under Secretary of Defense for Personnel & Readiness (USD(P&R)), Department of Defense (DoD).

ACTION: Notice of a modified system of records.

SUMMARY: In accordance with the Privacy Act of 1974, the DoD is modifying and reissuing a current system of records originally titled, “Military OneSource Case Management System (CMS),” DPR 45, which is being renamed as “Military OneSource Business Operations Information System”. This system of records was originally established by the USD(P&R) to collect and maintain records in the Military OneSource Case Management of individuals' eligibility for support as well as processing training registration, enrollment, requests, and self-motivated education/training for its Learning Management System. The Military OneSource is a call center and website providing comprehensive information on available benefits and services to Active Duty Military, Reserve and National Guard, eligible separated members and their family members. These benefits and services include financial counseling, educational assistance and benefits, relocation planning and preparation, quality of life programs, and family and community programs. In addition to formatting administrative changes, this modification changes the categories of individuals, categories of records, the system location, system manager, authorities, record source categories, policy and practices for storage, record access, contesting and notification procedures, as well as the routine uses within the SORN.

DATES: This system of records modification is effective upon publication; however, comments on the Routine Uses will be accepted on or before January 20, 2023. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Defense Privacy and Civil Liberties Division, Directorate for Privacy, Civil Liberties and Freedom of Information, Office of the Assistant to the Secretary of Defense for Privacy, Civil Liberties, and Transparency, Department of Defense, 4800 Mark Center Drive, Mailbox #24, Suite 08D09, Alexandria, VA 22350-1700; OSD.DPCLTD@mail.mil; (703) 571-0070.

SUPPLEMENTARY INFORMATION:

I. Background

The Military OneSource system of records provides service members and their families with access to a wide variety of resources and confidential support in order to weather the demands of military life. In an increasingly technological and mobile world, the Military OneSource offers support 24 hours a day, telephonically as well as online. Subject to public comment, the DoD is updating this SORN to add the standard DoD routine uses (routine uses A through J). Additionally, the following sections of this SORN are being modified as follows: system and number to support the integration of the Military OneSource Case Management System (CMS) into the larger Military OneSource Business Operations Information System technological environment; system location in order to expand the operating environments in support of the Military OneSource Business Operations Information System; system manger to support the dual-designation Military OneSource system manager responsibilities in support of the Military OneSource Business Operations Information System; authorities to include the addition of public law citations and National Defense Authorization Act (NDAA) authorities; the purpose to improve clarity; categories of individuals in order to incorporate those who have been determined, by DoD policy, to be eligible for the web-based services and capabilities; categories of records in order to improve clarity; record sources section incorporates formatting edits; policies and practices for storage to account for the use of Government-validated Cloud Computing environments; safeguards in order to describe additional measures that are employed in support of the Military One Source Business Operations Information System; record access procedures in order to improve clarity; contesting procedures to ensure the correct citation is listed for accessing records, contesting content, and appealing initial agency determinations; notification procedures in order to add clarity.

DoD SORNs have been published in the Federal Register and are available from the address in FOR FURTHER INFORMATION CONTACT or at the Office of the Assistant to the Secretary of Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to the OMB and to Congress.

Dated: December 15, 2022.
Aaron T. Siegel,
Alternate OSD Federal Register Liaison Officer, Department of Defense.

SYSTEM NAME AND NUMBER:

Military OneSource Business Operations Information System, DPR 45.

SECURITY CLASSIFICATION:

Unclassified.

SYSTEM LOCATION:

Defense Information Systems Agency (DISA), 6910 Cooper Avenue, Fort Meade, MD 20755-7085, Amazon Web Services (AWS) GovCloud Region, and MC&FP IT and Cyber Operations, 4800 Mark Center Drive, Alexandria, VA 22350-2300.

SYSTEM MANAGER(S):

(1) Under Secretary of Defense for Personnel and Readiness (USD/P&R), Office of the Deputy Assistant Secretary of Defense (DASD) for Military Community and Family Policy (MC&FP), Director, Military Community Support Programs (MCSP), 4800 Mark Center Drive, Suite 14E08, Alexandria, VA 22350-2300.

(2) Under Secretary of Defense for Personnel and Readiness (USD/P&R), Office of the Deputy Assistant Secretary of Defense (DASD) for Military Community and Family Policy (MC&FP), Director, Military Community Outreach (MCO) Directorate, 4800 Mark Center Drive, Alexandria, VA 22350-2300, email: osd.pentagon.ousd-p-r.mbx.mcfp-mcsp@mail.mil.

AUTHORITY FOR MAINTENANCE OF THE SYSTEM:

10 U.S.C. 136, Under Secretary of Defense for Personnel and Readiness; 10 U.S.C. 1788, Additional Family Assistance; 10 U.S.C. Chapter 88, Military Family Programs and Military Child Care, Subchapter I, Military Family Programs; 10 U.S.C. 53, Miscellaneous Rights and Benefits; Directive-type Memorandum (DTM)-17-004, DoD Expeditionary Civilian Workforce; DoD Directive 1322.18, Military Training; DoD Instruction (DoDI) 1342.22, Military Family Readiness; DoDI 6490.06, Counseling Services for DoD Military, Guard and Reserve, Certain Affiliated Personnel, and Their Family Members; and DoDI 1322.26, Distributed Learning (DL).

PURPOSE(S) OF THE SYSTEM:

The Military OneSource Business Operations Information System drives the technological capabilities that deliver the full ecosystem of Military OneSource web-based services that supports Service members and families throughout their military life, which includes one-year post military transition and survivors. The Military OneSource Business Operations Information System, Military OneSource digital enclave, and Military OneSource Content Management System (CMS) allow for documenting an individual's eligibility for these services; identification of the caller's inquiry or issue to provide a warm hand-off, referral and/or requested information; and the development of a final solution and referral information. The system also allows access to tools and resources such as live chat, appointment scheduling, community resource finder, MilTax software, financial calculators, Morale, Welfare, and Recreation (MWR) Digital Library; personalized moving checklists; training registration, enrollment requests, and self-motivated education/training for its Learning Management System (LMS). Records may be used as a management tool for statistical analysis, tracking, reporting, and evaluating program effectiveness and conducting research.

CATEGORIES OF INDIVIDUALS COVERED BY THE SYSTEM:

Active Duty Service members; Reserve and National Guard members; members of the Coast Guard activated as part of the Department of the Navy under Title 10 authority; medically discharged Service members participating in one of the Services Wounded Warrior or Seriously Ill and Injured Programs; those with honorable, other than honorable and general (under honorable conditions) discharges; Retired service members until 365 days past end of tour of service, retirement date or discharge date, including service members on the Temporary Disability Retirement List. Discharged service members (if discharged honorably) until 365 days past end of tour of service, retirement date or discharge date. Coast Guard veterans (if discharged honorably) and their immediate family are eligible from their separation date until 365 days past end of tour of service; Reserve Officer Training Course and Service Academy Cadets; DoD Civilians Expeditionary Workforce Personnel; survivors (surviving spouses who have not remarried and children) of active duty, National Guard and Reserve Service members (regardless of activation status or cause of Service member's death); immediate family members of the groups described above; individuals with a legal responsibility to care for service member's children acting for the benefit of the children; survivors of deceased Service members contacting Military OneSource seeking information, referrals, or non-medical counseling; service providers accessing the LMS.

CATEGORIES OF RECORDS IN THE SYSTEM:

Individual's full name, DoD ID number, date of birth, gender, gender identification, marital status, relationship to Service member, rank/grade, unit, branch of military Service, official duty address, military status and records (role of individual [e.g., Service Member, Survivor, Family Member, Service Provider] and military installation assigned to), current address and mailing address, emergency contact; participant education information, legal status, mother's middle/maiden name, telephone numbers (work/home/cell/DSN) and participant authorization or refusal to allow incoming/outgoing text messages between participant and Military OneSource, email addresses, participant ID and case number (automatically generated internal numbers not provided to the participant), presenting issue/information requested, handoff type to contractor, handoff notes, if interpretation is requested and the language requested, referrals, and feedback from quality assurance follow-up with participants.

Online Learning Platform: User account name, course history (attempted dates/times, grades), member type, agency, installation, unit, and service provider affiliation.

Non-medical counseling information: Non-medical counseling information includes a brief, non-clinical intake to ascertain the scope of support the participant needs (e.g., to effectively communicate with others).

RECORD SOURCE CATEGORIES:

Records and information stored in this system of records are obtained from:

A. Individual,

B. Military OneSource program officials,

C. Transition Assistance Program (TAP) Data Retrieval Web Service (TDRWS), and

D. Authorized contractors providing advice and support to the individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, these records may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To the appropriate Federal, State, local, territorial, tribal, foreign, or international law enforcement authority or other appropriate entity when necessary pursuant to a showing of compelling circumstances affecting the health or safety of an individual.

POLICIES AND PRACTICES FOR STORAGE OF RECORDS:

Records are maintained in electronic storage media. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by the participant's or Service members name, date of birth, participant ID, case ID, DoD ID number, phone number, email address, or an LMS account username.

POLICIES AND PRACTICES FOR RETENTION AND DISPOSAL OF RECORDS:

Master database files: Cut off after 3 years of continuous inactivity or notification of discharge, retirement or separation of the Service member. Destroy 10 years after cut off.

Non-medical counseling records: Cut off after 3 years of continuous inactivity or notification of discharge, retirement or separation of the Service member. Destroy 15 years after cut off.

Training records: Cut off annually upon completion of training. Destroy 5 years after cut off.

Call center recordings: Cut off after referral to non-medical counseling, employee assistance program support, information and referral. Destroy 90 days after cut off.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD established security audit and accountability policies and procedures which support the safeguarding of PII and detection of potential PII incidents. The DoD routinely employs safeguards such as the following to information systems and paper recordkeeping systems: records are maintained in a secure building in a controlled area accessible only to authorized personnel. Physical entry is restricted by the use of locks, passwords, and administrative procedures, which are changed periodically. The system is designed with access controls, comprehensive intrusion detection, and virus protection. Access to personally identifiable information in this system is role-based and restricted to those requiring the data in the performance of their official duties and completing annual information assurance and privacy training. Records are encrypted during transmission to protect session information, and while not in use (data at rest).

RECORDS ACCESS PROCEDURES:

Individuals seeking access to information about themselves or their minor legal dependent(s) in this record system should address inquiries in writing to the Office of the Secretary of Defense/Joint Staff Freedom of Information Act Requester Service Center, 1155 Defense Pentagon, Washington, DC 20701-1155. Signed, written requests should include the individual's full name (First, Middle, Last), all other names used, current address, telephone number, email address, date of birth (YYYYMMDD), and the name and number of this system of records notice (SORN). In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

January 24, 2017, 82 FR 8182; February 11, 2015, 80 FR 7579; October 15, 2014, 79 FR 61854.

[FR Doc. 2022-27671 Filed 12-20-22; 8:45 am]

BILLING CODE 5001-06-P